DEPARTMENT OF COMMERCE

National Oceanic and Atmospheric Administration

[I.D. 022601A]

Coral Reefs Economic Valuation Study

AGENCY: National Oceanic and Atmospheric Administration (NOAA).

ACTION: Proposed collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before April 30, 2001.

ADDRESSES: Direct all written comments to Madeleine Clayton, Departmental Forms Clearance Officer, Department of Commerce, Room 6086, 14th and Constitution Avenue NW, Washington DC 20230 (or via Internet at MClayton@doc.gov).

FOR FURTHER INFORMATION CONTACT: Requests for additional information or copies of the information collection instrument(s) and instructions should be directed to Dr. Vernon R. Leeworthy, NOS/Special Projects Office, N/SP3, Room 9124, 1305 East-West Highway, Silver Spring, MD 20910 (phone 301-713-3000, ext. 138), or via Internet at Bob.Leeworthy@noaa.gov.

SUPPLEMENTARY INFORMATION:

I. Abstract

The purpose of this data collection would be to provide information on the value of coral reef habitats to specific segments of the U.S. population. The study will measure nonmarket economic values for coral reefs. This effort is designed to provide defensible information for both resource managers and damage assessments on the value of coral reef habitats and alternative management actions. The project is designed as a phased three-year effort to ensure effective use of all the available information. This effort will involve development of extensive knowledge about how reef habitats are perceived, implication of alternative management actions, designing original survey instruments, interviewing of a large number of respondents, conducting formal statistical analysis of the data, and developing a decision-support system for resource managers to use.

For active users of coral reefs, separate surveys of residents and visitors will be conducted to estimate the amount of use (measured in person-days) of the coral reefs, spending in the local economies while undertaking the activities on the reefs, and information that will support estimation of nonmarket economic use values using travel cost demand models, and discrete choice contingent valuation methods. For nonuse or passive use, a nationally-oriented survey will be conducted using stated preferences methods.

II. Method of Collection

Interviews will be conducted. The survey instruments will be formulated with the use of focus groups and a pre-test of the instrument will be conducted.

III. Data

OMB Number: None.

Form Number: None.

Type of Review: Regular submission.

Affected Public: Individuals or households.

Estimated Number of Respondents: 2,538.

Estimated Time Per Response: 2 hours for a focus group member, 30 minutes for a pretest, and 30 minutes for the final survey.

Estimated Total Annual Burden Hours: 1,400.

Estimated Total Annual Cost to Public: $0.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 22, 2001.
Madeleine Clayton,
Departmental Forms Clearance Officer, Office of Chief Information Officer.

[FR Doc. 01-4955 Filed 2-28-01; 8:45 am]

BILLING CODE 3510-JS